DEPARTMENT OF COMMERCE

National Oceanic and Atmospheric Administration

Proposed Information Collection; Comment Request; A Social Network Analysis of NOAA's Sentinel Site Program

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 14, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Chris Ellis, (843) 740-1195 or Chris.Ellis@noaa.gov.

SUPPLEMENTARY INFORMATION:

I. Abstract

This request is for a new collection.

The NOAA Sentinel Site Program (SSP) brings to life NOAA's science, service, and stewardship continuum by leveraging existing resources and integrating multiple parallel efforts to promote resilient coastal communities and ecosystems in the face of change. A primary purpose of the NOAA Sentinel Site Program is to directly engage local, state, and federal managers as part of a Sentinel Site Cooperative (SSC) team. By doing so, managers can help ensure the types of science conducted, information gathered, and products developed are immediately used for better management. With this point in mind, who is actually using the products and services developed by these Cooperatives, and to what degree is capacity being built among and between coastal professionals and organizations through communications generated through the SSCs.

The purpose of this survey is to better understand the frequency and patterns of communication as a result of the efforts of the SSP. To help gather this information, NOAA will survey individuals known to have experience and insight with the SSP and inquire on the communications and collaborations that have resulted. This is intended to serve as a means of formative evaluation for this effort. A formative evaluation is used to assess programs or projects early in their development or implementation to provide information about how best to revise and modify for improvement. This type of evaluation often is helpful for new programs, such as the SSC, but can also be used to monitor the progress of ongoing programs.

II. Method of Collection

The survey will be provided to respondents in electronic format provided via email. Methods of submittal will also be via email of electronic forms.

III. Data

OMB Control Number: None.

Form Number: None.

Type of Review: Regular submission (request for a new information collection).

Affected Public: Non-profit institutions; State, local, or tribal government; business or other for-profit organizations.

Estimated Number of Respondents: 250.

Estimated Time per Response: 20 minutes.

Estimated Total Annual Burden Hours: 83.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 10, 2014.
Gwellnar Banks,
Management Analyst, Office of the Chief Information Officer.

[FR Doc. 2014-03138 Filed 2-12-14; 8:45 am]

BILLING CODE 3510-08-P